DEPARTMENT OF ENERGY

Federal Energy Regulatory Commission

Combined Notice of Filings

Take notice that the Commission has received the following Natural Gas Pipeline Rate and Refund Report filings:

Filings Instituting Proceedings

Docket Numbers: RP13-283-000.

Applicants: East Tennessee Natural Gas, LLC.

Description: Contracting Process Nov2012 Filing to be effective 1/1/2013.

Filed Date: 11/15/12.

Accession Number: 20121115-5076.

Comments Due: 5 p.m. ET 11/27/12.

Docket Numbers: RP13-284-000.

Applicants: Maritimes & Northeast Pipeline, L.L.C.

Description: Contracting Processes Nov2012 Filing to be effective 1/1/2013.

Filed Date: 11/15/12.

Accession Number: 20121115-5082.

Comments Due: 5 p.m. ET 11/27/12.

Docket Numbers: RP13-285-000.

Applicants: Ozark Gas Transmission, L.L.C.

Description: Contracting Processes Nov2012 Filing to be effective 1/1/2013.

Filed Date: 11/15/12.

Accession Number: 20121115-5083.

Comments Due: 5 p.m. ET 11/27/12.

Docket Numbers: RP13-286-000.

Applicants: Discovery Gas Transmission L.L.C.

Description: 2013 HMRE Filing to be effective 1/1/2013.

Filed Date: 11/15/12.

Accession Number: 20121115-5085.

Comments Due: 5 p.m. ET 11/27/12.

Docket Numbers: RP13-287-000.

Applicants: Saltville Gas Storage Company L.L.C.

Description: Contracting Processes Nov2012 Filing to be effective 1/1/2013.

Filed Date: 11/15/12.

Accession Number: 20121115-5089.

Comments Due: 5 p.m. ET 11/27/12.

Docket Numbers: RP13-288-000.

Applicants: Egan Hub Storage, LLC.

Description: Contracting Processes Nov2012 Filing to be effective 1/1/2013.

Filed Date: 11/15/12.

Accession Number: 20121115-5092.

Comments Due: 5 p.m. ET 11/27/12.

Docket Numbers: RP13-289-000.

Applicants: Bobcat Gas Storage.

Description: Contracting Processes Nov2012 Filing to be effective 1/1/2013.

Filed Date: 11/15/12.

Accession Number: 20121115-5093.

Comments Due: 5 p.m. ET 11/27/12.

Docket Numbers: RP13-290-000.

Applicants: Iroquois Gas Transmission System, L.P.

Description: 11/15/12 Negotiated Rates—BG Energy Merchants, LLC (RTS) 6040-39 & -40 to be effective 12/1/2012.

Filed Date: 11/15/12.

Accession Number: 20121115-5146.

Comments Due: 5 p.m. ET 11/27/12.

Docket Numbers: RP13-291-000.

Applicants: Iroquois Gas Transmission System, L.P.

Description: 11/15/12 HUB Negotiated Rates Blanket Filing 2 to be effective 11/15/2012.

Filed Date: 11/15/12.

Accession Number: 20121115-5148.

Comments Due: 5 p.m. ET 11/27/12.

Docket Numbers: RP13-292-000.

Applicants: Iroquois Gas Transmission System, L.P.

Description: 11/15/12 Negotiated Rates—Barclays Bank PLC to be effective 12/1/2012.

Filed Date: 11/15/12.

Accession Number: 20121115-5149.

Comments Due: 5 p.m. ET 11/27/12.

Docket Numbers: RP13-293-000.

Applicants: Equitrans, L.P.

Description: Reservation of Capacity for Future Service to be effective 12/15/2012.

Filed Date: 11/15/12.

Accession Number: 20121115-5156.

Comments Due: 5 p.m. ET 11/27/12.

Docket Numbers: RP13-294-000.

Applicants: Gulf South Pipeline Company, LP.

Description: Create ENS Service to be effective 1/1/2013.

Filed Date: 11/16/12.

Accession Number: 20121116-5034.

Comments Due: 5 p.m. ET 11/28/12.

Docket Numbers: RP13-295-000.

Applicants: Tennessee Gas Pipeline Company, L.L.C.

Description: Update Tariff Prior to EP2DART Conversion Filing to be effective 12/17/2012.

Filed Date: 11/16/12.

Accession Number: 20121116-5074.

Comments Due: 5 p.m. ET 11/28/12.

Docket Numbers: RP13-296-000.

Applicants: ANR Pipeline Company.

Description: Remove Rate Schedule X-64 to be effective 11/1/2012.

Filed Date: 11/16/12.

Accession Number: 20121116-5165.

Comments Due: 5 p.m. ET 11/28/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-1070-001.

Applicants: Midwestern Gas Transmission Company.

Description: Negotiated Rate Non-Conforming Agreement—Sequent to be effective 10/1/2012.

Filed Date: 11/15/12.

Accession Number: 20121115-5145.

Comments Due: 5 p.m. ET 11/27/12.

Docket Numbers: RP13-121-001.

Applicants: Crossroads Pipeline Company.

Description: NAESB 2.0 Compliance Filing to be effective 12/1/2012.

Filed Date: 11/16/12.

Accession Number: 20121116-5103.

Comments Due: 5 p.m. ET 11/28/12.

Docket Numbers: RP13-225-001.

Applicants: Gulf South Pipeline Company, LP.

Description: Amendment to Filing in Docket No. RP13-225-000 to be effective 11/1/2012.

Filed Date: 11/16/12.

Accession Number: 20121116-5033.

Comments Due: 5 p.m. ET 11/28/12.

Docket Numbers: RP13-99-001.

Applicants: Empire Pipeline, Inc.

Description: Empire-NAESB v2 CF to be effective 12/1/2012.

Filed Date: 11/16/12.

Accession Number: 20121116-5189.

Comments Due: 5 p.m. ET 11/28/12.

Docket Numbers: RP13-97-001.

Applicants: National Fuel Gas Supply Corporation.

Description: NAESB V2.0 CF to be effective 12/1/2012.

Filed Date: 11/19/12.

Accession Number: 20121119-5022.

Comments Due: 5 p.m. ET 12/3/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 19, 2012.
Nathaniel J. Davis, Sr.,
Deputy Secretary.

[FR Doc. 2012-28573 Filed 11-23-12; 8:45 am]

BILLING CODE 6717-01-P